DEPARTMENT OF AGRICULTURE

Submission for OMB Review; Comment Request

March 27, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: State Petitions for Roadless Management.

OMB Control Number: 0596-0178.

Summary of Collection: The Forest Service (FS) has the authority to collect relevant information pertinent to the management of national forests. The current United States Code outlines these authorities in U.S.C. Title 16 (Sections 475 and 511) derived from the National Forest Organic Act of 1897 and the U.S.C. Title 16 (Sections 1600-1604, 1608-1610, and 1611-1613) based on the Forest and Rangeland Renewable Resources Planning Act of 1974 and the National Forest Management Act of 1976. On January 12, 2001, the USDA promulgated the Roadless Rule at 36 CFR 294. The Rule changed the FS's longstanding approach to management of inventoried roadless areas by establishing nationwide prohibitions limiting, with some exceptions, timber harvest, road construction, and road reconstruction within inventoried roadless areas on National Forest System (NFS) lands. Prior to the Roadless Rule, management direction for these areas was developed for each individual NFS unit through the local land management planning process. During the development of the Roadless Rule, several western state governors requested and were denied cooperating agency status to assist with the preparation of the rule and accompanying environmental impact statement. After the decision, the FS established an individual state petitioning process in 36 CFR Part 294. State and territorial governors use the petitioning process to seek establishment of management requirements for NFS inventoried roadless areas with their states.

Need and Use of the Information: FS will collect information from the petition that shall include the following: (1) The location and description of the particular lands for which the petition is being made; (2) the particular management requirements sought and any exceptions; (3) the identification of the circumstances and needs intended to be addressed by the petition; (4) a description of how the management requirements identified in (2) differ from the existing applicable land management; (5) a description of how the management requirements identified in item (2) compare to existing state land conservation policies and direction set forth in any applicable state land and resource management plan; (6) a description of how the recommended management requirements identified in item (2) would affect fish and wildlife that utilize the particular lands in question; and (7) a description of any public involvement efforts undertaken by the state during development of the petition, including efforts to engage local governments, and: persons with expertise in fish and wildlife biology, fish and wildlife management, forest management outdoor recreation, and other important disciplines.

Description of Respondents: State, Local or Tribal Government.

Number of Respondents: 12.

Frequency of Responses: Reporting: On occasion.

Total Burden Hours: 12,000.

Charlene Parker,
Departmental Information Collection Clearance Officer.

[FR Doc. E8-6647 Filed 3-31-08; 8:45 am]

BILLING CODE 3410-11-P